DEPARTMENT OF HEALTH AND HUMAN SERVICES

Centers for Disease Control and Prevention

[Funding Opportunity Number: RFA 05045]

Academic Partners Public Health Training Grant; Notice of Availability of Funds—Amendment

A notice announcing the availability of fiscal year (FY) 2005 funds for a grant to: (a) provide trainees the opportunity to learn about broad, cross-cutting public health policy and program development at the Federal, state and local government level and (b) make progress toward achieving the prevention objectives of Healthy People 2010 was published in the Federal Register on February 15, 2005, Vol. 70, No. 30, pages 7739-7744.

The notice is amended as follows: On page 7740, Column 1, First line: change to “Application Deadline: April 1, 2005.” On page 7743, Column 1, Section 1V.5, please include a third bullet that states: Indirect costs cannot exceed 8% of the total direct cost.

Dated: March 1, 2005.
William P. Nichols,
Director, Procurement and Grants Office, Centers for Disease Control and Prevention.

[FR Doc. 05-4315 Filed 3-4-05; 8:45 am]

BILLING CODE 4163-18-P